DEPARTMENT OF ENERGY

Federal Energy Regulatory Commission

[Docket No. ER99-230-005, et al.]

Alliant Energy Corporate Services, Inc., et al.; Electric Rate and Corporate Filings

August 24, 2004.

The following filings have been made with the Commission. The filings are listed in ascending order within each docket classification.

1. Alliant Energy Corporate Services, Inc.

[Docket No. ER99-230-005]

Take notice that on August 20, 2004, Alliant Energy Corporate Services, Inc., (Alliant Energy) tendered for filing updated market power analyses in compliance with Commission orders in AEP Power Marketing, Inc., et al., 107 FERC ¶ 61,018 (2004) (April 14 Order), order on reh'g 108 FERC ¶ 61,026 (2004), and Acadia Power Partners, LLC, 107 FERC ¶ 61,168 (2004) (May 13 Order).

Comment Date: 5 p.m. eastern standard time on September 10, 2004.

2. New Century Services, Inc.; Xcel Energy Services, Inc

[Docket Nos. ER99-1610-009 and ER01-205-005]

Take notice that, on August 19, 2004, Xcel Energy Services Inc., (XES) on behalf of the Xcel Energy Operating Companies, Northern States Power Company, Northern States Power Company, Public Service Company of Colorado and Southwestern Public Service Company submitted a notification regarding change in status pursuant to the orders granting market-based rate authority to these entities. (New Century Services, Inc., 86 FERC ¶ 61,307 (1999) and Xcel Energy Services Inc., Commission letter order issued January 30, 2001 in Docket No. ER01-205-000 and ER01-205-001).

Xcel Energy Services Inc. indicates that copies of the filing were served on parties on the official service list in the above-captioned proceedings.

Comment Date: 5 p.m. eastern standard time on September 9, 2004.

3. New York Independent System Operator, Inc.

[Docket No. ER04-791-000]

Take notice that on August 20, 2004 the New York Independent System Operator, Inc. (NYISO) filed a Notice of Withdrawal of proposed tariff provisions that were designed to implement its proposed interim scheduling procedures for external transactions at the Shoreham Proxy Generator Bus.

NYISO states that it has served a copy of this filing upon all parties that have executed Service Agreements under the NYISO's Open-Access Transmission Tariff or Services Tariff, ISO New England Inc., the New York State Public Service Commission and to the electric utility regulatory agencies in New Jersey and Pennsylvania.

Comment Date: 5 p.m. eastern standard time on September 10, 2004.

4. American Electric Power Service Corporation

[Docket No. ER04-1141-000]

Take notice that on August 20, 2004, American Electric Power Service Corporation (AEPSC), on behalf of Appalachian Power Company, Columbus Southern Power Company, Indiana Michigan Power Company, Kentucky Power Company, and Ohio Power Company (Ohio Power) (collectively, the AEP Eastern Operating Companies), tendered for filing a PJM Services Agreement between the AEP Eastern Operating Companies and Buckeye Power, Inc. AEPSC also files, on behalf of Ohio Power, Amendment No. 9 to the Station Agreement and a cardinal station NOx emission allowance agreement among Ohio Power, Buckeye, and Cardinal Operating Company.

AEPSC states that copies of the filing were served on Buckeye Power, Inc. and the Public Utilities Commission of Ohio.

Comment Date: 5 p.m. eastern standard time on September 10, 2004.

5. Lower Mount Bethel Energy, LLC

[Docket No. ER04-1142-000]

Take notice that on August 20, 2004, Lower Mount Bethel Energy, LLC (LMBE) submitted a rate schedule pursuant to which it specifies its revenue requirement for providing cost-based reactive support and voltage control from generation sources service (Reactive Power). LMBE states that it will provide Reactive Power from its natural gas-fueled electric generating facility located in Lower Mount Bethel Township, Northampton County, Pennsylvania (Facility) in the control area administered by the PJM Interconnection, L.L.C. (PJM). LMBE respectfully requests an effective date of September 1, 2004.

LMBE states that a copy of the filing was served upon PJM.

Comment Date: 5 p.m. eastern standard time on September 10, 2004.

6. New York Independent System Operator, Inc.

[Docket No. ER04-1144-000]

Take notice that on August 20, 2004, the New York Independent System Operator, Inc. (NYISO) filed modifications to its Open Access Transmission Tariff (OATT) to implement a Comprehensive Reliability Planning Process. NYISO requests an effective date on October 19, 2004.

NYISO states that it has electronically served a copy of this filing on the official representative of each of its customers, on each participant in its stakeholder committees, and on the New York State Public Service Commission. NYISO states that it has also served the electric utility regulatory agencies of New Jersey and Pennsylvania.

Comment Date: 5 p.m. eastern standard time on September 10, 2004.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E4-2001 Filed 8-31-04; 8:45 am]

BILLING CODE 6717-01-P